DEPARTMENT OF JUSTICE

Notice of Lodging of Proposed Consent Decree Under the Comprehensive Environmental Response, Compensation, and Liability Act

On July 14, 2020, the Department of Justice lodged a proposed consent decree with the United States District Court for the District of Massachusetts, in the lawsuit entitled United States v. 280 Salem Street, LLC et al., Civil Action No. 1:20-cv-11321.

The United States filed this lawsuit under Sections 106, 107, and 113 of the Comprehensive Environmental Response, Compensation, and Liability Act (“CERCLA”), 42 U.S.C. 9606, 9607, and 9613. In its complaint, the United States seeks (a) recovery, under Section 107(a) of CERCLA, 42 U.S.C. 9607(a), of response costs it incurred in conducting response activities in connection with the release or threatened release of hazardous substances into the environment at or from Operable Unit 4 (“OU4”), also known as the “Southwest Properties,” of the Wells G&H Superfund Site, located in Woburn, Massachusetts (the “Site”); (b) a declaratory judgment, under Section 113(g)(2) of CERCLA, 42 U.S.C. 9613(g)(2), holding that all defendants will be liable for any further response costs the United States may incur as a result of a release or threatened release of hazardous substances into the environment at or from OU4; and (c) injunctive relief under Section 106 of CERCLA, 42 U.S.C. 9606, requiring that Defendants take action to abate conditions at or near OU4 that may present an imminent and substantial endangerment to the public health or welfare or the environment because of actual and threatened releases of hazardous substances into the environment at or from OU4.

Under the proposed consent decree, three defendants (the “Performing Settling Defendants”), which allegedly owned or operated facilities in OU4, will perform a remedial action estimated to cost approximately $19.1 million and pay 80 percent of EPA's future response costs, including costs of overseeing this cleanup work. The thirteen other defendants (the “Cashout Settling Defendants”), which allegedly arranged for the disposal of hazardous substances at OU4, will pay approximately $3.9 million into a trust fund for use by the Performing Settling Defendants to help finance the remedial work. As part of the settlement, EPA will make available $4.8 million from a special site account (from monies obtained in prior settlements related to the Site) to partially fund the remedial action. The Performing Settling Defendants are 280 Salem Street, LLC; ConAgra Grocery Products Company, LLC; and Murphy's Waste Oil Service, Inc. The Cashout Settling Defendants are Atos IT Solutions and Services, Inc.; BASF Corporation; Cognis USA LLC; Goulston Technologies, Inc.; NSTAR Electric Company d/b/a Eversource Energy; Organix, LLC; OSRAM SYLVANIA, Inc., Pharmacia, LLC, by its Attorney-in-Fact, Monsanto Company; Stepan Company; The Gillette Company; The Sherwin Williams Company; Varian Medical Systems, Inc.; and W.R. Grace & Co.—Conn.

The publication of this notice opens a period for public comment on the proposed consent decree. Comments should be addressed to the Assistant Attorney General, Environment and Natural Resources Division, and should refer to United States v. 280 Salem Street, et al., D.J. Ref. No. 90-11-3-194/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. Paper copies of the consent decree are available upon written request and payment of reproduction costs. Such requests and payments should be addressed to: Consent Decree Library, U.S. DOJ—ENRD, P.O. Box 7611, Washington, DC 20044-7611.

With each such request, please enclose a check or money order for $31.75 (25 cents per page reproduction cost) per paper copy, payable to the United States Treasury.

Henry S. Friedman,
Assistant Section Chief, Environmental Enforcement Section, Environment and Natural Resources Division.

[FR Doc. 2020-15587 Filed 7-17-20; 8:45 am]

BILLING CODE P